DEPARTMENT OF HEALTH AND HUMAN SERVICES

Centers for Disease Control and Prevention

[Docket No. CDC-2020-0122]

Advisory Committee on Immunization Practices (ACIP); Correction

Notice is hereby given of a change in the meeting of the Advisory Committee on Immunization Practices (ACIP); December 11, 2020, 12:00 p.m.-5:00 p.m., EST; and December 13, 2020, 12:00 p.m.-4:00 p.m., EST (times subject to change, see the ACIP website for any updates: http://www.cdc.gov/vaccines/acip/index.html) which was published in the Federal Register on December 9, 2020, Volume 85, Number 237, pages 79814-79815.

The meeting dates and times should read as follows:

DATES:

The meeting will be held on December 11, 2020 from 12:00 p.m. to 5:00 p.m., EST and December 12, 2020 from 11:00 a.m. to 3:00 p.m., EST (times subject to change, see the ACIP website for any updates: http://www.cdc.gov/vaccines/acip/index.html).

Written comments must be received on or before December 14, 2020.

The meeting is open to the public.

FOR FURTHER INFORMATION CONTACT: Stephanie Thomas, ACIP Committee Management Specialist, Centers for Disease Control and Prevention, National Center for Immunization and Respiratory Diseases, 1600 Clifton Road, NE, MS-H24-8, Atlanta, GA 30329-4027; Telephone: 404-639-8367; Email: ACIP@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-28091 Filed 12-18-20; 8:45 am]

BILLING CODE 4163-18-P